SECURITIES AND EXCHANGE COMMISSION

Issuer Delisting; Notice of Application to Withdraw From Listing and Registration; (Ceridian Corporation, Common Stock, $.50 Par Value) File No. 1-01969

January 4, 2001.

Ceridian Corporation (“Company”) has filed applications with the Securities and Exchange Commission (“Commission”), pursuant to section 12(d) of the Securities Exchange Act of 1934 (“Act”) ¹ and Rule 12d2-2(d) thereunder,² to withdraw its Common Stock, $.50 par value (“Security”), from listing and registration on the Pacific Exchange, Inc. (“PCS”) and on the Chicago Stock Exchange, Inc. (“CHX”).

¹ 15 U.S.C. 78l(d).

² 17 CFR 240.12d2-2(d).

In addition to its listing on the PCX and CHX, the Security is currently listed on the New York Stock Exchange, Inc. (“NYSE”). The Company has resolved to reduce the number of listings of its Security in order to avoid the costs associated with maintaining multiple listings. The Comany desires to continue only its listing on the NYSE.

The Company has stated in its application that it has complied with the respective rules of the PCX and CHX governing the withdrawal of security by its issuer and that both the PCX and the CHX have in turn indicated that they will not oppose such proposed withdrawals. The Company's application shall not have any effect on the Security's continued listing on the NYSE or on its registration under section 12(b) of the Act.³

³ 15 U.S.C. 78l(b).

Any interested person may, on or before January 26, 2001, submit by letter to the Secretary of the Securities and Exchange Commission, 450 Fifth Street, NW., Washington, DC 20549-0609, facts bearing upon whether the application has been made in accordance with the respective rules of the PCX and CHX and what terms, if any, should be imposed by the Commission for the protection of investors. The Commission, based on the information submitted to it, will issue an order granting the application after the date mentioned above, unless the Commission determines to order a hearing on the matter.

For the Commission by the Division of Market Regulations, pursuant to delegated authority.⁴
⁴ 17 CFR 200.30-3(a)(1).
Jonathan G. Katz,
Secretary.

[FR Doc. 01-789 Filed 1-10-01; 8:45 am]

BILLING CODE 8010-01-M